TENNESSEE VALLEY AUTHORITY

Environmental Impact Statement—Mountain Reservoirs Land Management Plan, Tennessee, North Carolina, and Georgia

AGENCY: Tennessee Valley Authority.

ACTION: Notice of intent.

SUMMARY: The Tennessee Valley Authority (TVA) will prepare an environmental impact statement (EIS) addressing the impacts of various alternatives for managing project lands on nine TVA reservoirs in southeastern Tennessee, southwest North Carolina, and northwest Georgia. Public comment is invited concerning both the scope of the EIS and environmental issues that should be addressed as a part of this EIS.

DATES: Comments on the scope of the EIS should be received on or before June 30, 2007.

ADDRESSES: Written comments should be sent to Kenneth P. Parr, Environmental Stewardship and Policy, Tennessee Valley Authority, 1101 Market Street, LP 5U-C, Chattanooga, Tennessee 37402-2801. Comments may be e-mailed to kpparr@tva.gov or submitted by fax at (423) 751-3230.

FOR FURTHER INFORMATION CONTACT: Laura M. Duncan, Tennessee Valley Authority, 1101 Market St. PSC 1E-C, Chattanooga, Tennessee 37402-2801. Telephone (423) 876-6706. E-mail may be sent to Mountain_Reservoirs@tva.gov.

SUPPLEMENTARY INFORMATION:

Background

This notice is provided in accordance with the Council on Environmental Quality's regulations (40 CFR parts 1500 to 1503), TVA's procedures for implementing the National Environmental Policy Act (NEPA), and Section 106 of the National Historic Preservation Act (NHPA) and its implementing regulations (36 CFR part 800).

The Mountain Reservoirs Land Management Plan (Plan) will address lands on the following reservoirs: Ocoee 1 (Parksville), Ocoee 2, and Ocoee 3 in Polk County, Tennessee; Apalachia in Polk County, Tennessee and Cherokee County, North Carolina; Hiwassee in Cherokee County, North Carolina; Fontana in Swain and Graham Counties, North Carolina; Chatuge in Clay County, North Carolina and Towns County, Georgia; Blue Ridge in Fannin County, Georgia; and Nottely in Union County, Georgia. These reservoirs were completed between 1911 and 1944. All of these reservoirs are operated for power production and recreation, and several of them also provide flood control and other benefits. The length of the reservoir pools range from 0 miles for the run-of-river Ocoee 2 to 29 miles for Fontana.

TVA originally acquired a total of 104,375 acres of land above normal summer pool for the nine reservoirs and their associated hydroelectric generating facilities. Over the years, TVA has transferred to other public agencies, primarily the National Park Service and the U.S. Forest Service, or sold to various public and private entities the majority of this land. TVA presently owns a total of 6,274 acres of land on these reservoirs that is the subject of this Plan.

TVA manages its public lands for conservation, recreation, and economic development. The Plan will allocate lands to various categories of uses, which will then be used to guide the types of activities that will be considered on each parcel of land. This allocation will take into account past land use allocations, current land uses, public needs, the presence of sensitive environmental resources, and TVA policies. By providing a clear statement of how TVA intends to manage public lands and by identifying land for specific uses, TVA hopes to provide a blueprint for the management of its mountain reservoir lands. Plans are submitted to the TVA Board of Directors for approval and adopted as guidelines for management of TVA public land consistent with the agency's responsibilities under the 1933 TVA Act.

Potential Alternatives

The EIS will analyze a range of alternative approaches to land allocation. The No Action alternative would continue to rely on the Forecast System adopted by TVA in 1965 and subsequently updated for all of the subject reservoirs except Fontana, which has never been planned. Planned uses under the Forecast System are Dam Reservation, Powerhouse Reservation, Public Recreation, Agricultural Research, Industry, Construction and Maintenance, Reservoir Operations, and Commercial Recreation.

One or more Action Alternatives are anticipated depending on the results of the public scoping. Under any Action Alternative, TVA contemplates allocating lands into the following zones: Non-TVA Shoreland/Flowage Easement, TVA Project Operations, Sensitive Resource Management, Natural Resource Conservation, Industrial, Recreation, and Shoreline Access. If there are multiple Action Alternatives, they would likely differ in the amount of land they allocate to these zones.

Under all alternatives, TVA anticipates that lands currently committed to a specific use would be allocated to that current use; however, changes that support TVA goals and objectives can be considered. Committed lands include those with existing long term easements, leases, licenses, and contracts; lands with outstanding land rights; and lands that are necessary for TVA project operations. The committed lands total 5,194 acres or 83 percent of the 6,274 acres being planned. The TVA dam reservations and generating facilities make up about 47 percent of the committed lands. Uncommitted lands total 1,080 acres. The uncommitted lands are on Chatuge, Nottely, Hiwassee, and Blue Ridge Reservoirs.

This EIS will tier from TVA's Final EIS, Shoreline Management Initiative: An Assessment of Residential Shoreline Development Impacts in the Tennessee Valley (November 1998). That EIS evaluated alternative policies for managing residential shoreline development on TVA reservoirs. Residential shoreline occurs on Chatuge, Hiwassee, Blue Ridge, Fontana and Nottely Reservoirs, and the Plan will not affect the policies for its management.

Proposed Issues To Be Addressed

The EIS will contain descriptions of the existing environmental and socioeconomic resources within the area that would be affected by the Plan. TVA's evaluation of potential impacts to these resources will include, but not necessarily be limited to, the potential impacts on water quality, water supply, aquatic and terrestrial ecology, endangered and threatened species, wetlands, floodplains, recreation, aesthetics and visual resources, land use, historic and archaeological resources, and socioeconomic resources.

Scoping Process

Scoping, which is integral to the process for implementing the NEPA, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The range of alternatives and the issues to be addressed in the draft EIS will be determined, in part, from written comments submitted by mail or e-mail, and comments presented orally or in writing at any public meetings. The preliminary identification of reasonable alternatives and environmental issues in this notice is not meant to be exhaustive or final.

Additional information on the planning process is available on the TVA Web site at http://www.tva.com/environment/reports/mtnres/. This material includes a questionnaire that scoping participants are requested to complete in order to assist TVA in the planning process.

The participation of affected Federal, State, and local agencies and Indian tribes, as well as other interested persons, is invited. Pursuant to the regulations of the Advisory Council on Historic Preservation implementing Section 106 of the NHPA, TVA also solicits comments on the potential of the proposed Plan to affect historic properties. This notice also provides an opportunity under Executive Orders 11990 and 11988 for early public review of the potential for TVA's Plan to affect wetlands and floodplains, respectively.

Comments on the scope of this EIS should be submitted no later than the date given under the DATES section of this notice. Any comments received, including names and addresses, will become part of the administrative record and will be available for public inspection.

TVA will hold a public scoping meeting on June 21, 2007. The open-house style meeting will be held at the Blairsville Campus of the North Georgia Technical College, 434 Meeks Avenue, Blairsville, Georgia.

Upon consideration of the scoping comments, TVA will develop alternatives and identify environmental issues to be addressed in the EIS. These will be described in a report that will be available to the public. Following analysis of the environmental consequences of each alternative, TVA will prepare a draft EIS for public review and comment. Notice of availability of the draft EIS will be published by the Environmental Protection Agency in the Federal Register. TVA will solicit comments on the draft EIS in writing and at public meetings to be held in the project area. TVA expects to release the draft EIS in the winter of 2008 and the final EIS in the summer of 2008.

Dated: May 25, 2007.
Bridgette K. Ellis,
Senior Vice President, Office of Environment and Research.

[FR Doc. E7-10637 Filed 5-31-07; 8:45 am]

BILLING CODE 8120-08-P